ENVIRONMENTAL PROTECTION AGENCY

[FRL-6848-7]

Proposed CERCLA Section 122(h) Administrative Agreement for Recovery of Past Costs for the Genzale Plating Superfund Site, Franklin Square, Nassau County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region II, of a proposed administrative agreement pursuant to section 122(h) of CERCLA, 42 U.S.C. 9622(h), for recovery of past response costs concerning the Genzale Plating Superfund Site (“Site”) located in Franklin Square, Nassau County, New York, with three parties: M. Genzale Plating Company, Inc. (“Genzale”), Michael J. Genzale, and Michael F. Genzale. The agreement is an “ability to pay” settlement. Under the settlement, respondents, who are closing the business at the Site, agree to sell the facility property and convey the net proceeds of the sale into an escrow account. They also agree to pay $505,000 into the escrow account, which is to be used for, inter alia, environmental expenses attendant to properly shutting the business' facility. The remaining funds in the escrow account will be paid to the United States. Because the price of the property and the amount of expenses are not currently known, the ultimate amount which the United States will receive from the settlement is also not known, but is likely to exceed $500,000. For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at the EPA, Region II, 290 Broadway, New York, New York 10007-1866.

DATES: Comments must be submitted on or before September 11, 2000.

ADDRESSES: The proposed settlement is available for public inspection at the EPA, 290 Broadway, New York, New York 10007-1866. Comments should reference the Genzale Plating Superfund Site located in Franklin Square, Nassau County, New York, Docket No. CERCLA-02-2000-2010. A copy of the proposed settlement may be obtained from the individual listed below.

FOR FURTHER INFORMATION CONTACT: James F. Doyle, Assistant Regional Counsel, New York/Caribbean Superfund Branch, Office of Regional Counsel, U.S. Environmental Protection Agency, 17th Floor, 290 Broadway, New York, New York 10007-1866. Telephone: 212-637-3165.

Dated: July 31, 2000
William J. Muscynski,
Acting Regional Administrator, Region 2.

[FR Doc. 00-20320 Filed 8-9-00; 8:45 am]

BILLING CODE 6560-50-P